GENERAL SERVICES ADMINISTRATION

[Notice-R03-2011-01; Docket 2011-0006; Sequence 18]

Notice of Intent To Prepare an Environmental Impact Statement for the Foreign Affairs Security Training Center (FASTC) and To Announce Public Scoping Meetings

AGENCY: U.S. General Services Administration (GSA).

ACTION: Notice.

SUMMARY: Pursuant to the National Environmental Policy Act (NEPA) of 1969, as implemented by the Council on Environmental Quality regulations (40 Code of Federal Regulations [CFR] parts 1500-1508), the GSA announces its intent to prepare an Environmental Impact Statement (EIS) to analyze and assess the environmental impacts of site acquisition and development of the United States Department of State (DOS), Bureau of Diplomatic Security, the Foreign Affairs Security Training Center (FASTC) at the Virginia Army National Guard's Maneuver Training Center at Fort Pickett and Pickett Park in Nottoway County, Virginia. DOS, United States Army Corps of Engineers, United States Environmental Protection Agency and National Guard Bureau are cooperating agencies in this EIS.

DATES: A public scoping meeting in open house format will be held on October 18, 2011 from 6:30 p.m. to 8:30 p.m. to provide the public with an opportunity to provide comments, ask questions, and discuss concerns regarding the scope of the EIS with GSA and DOS representatives.

ADDRESSES: GSA will hold a public scoping meeting at the Blackstone Armory, 1008 Darvills Rd., Blackstone, VA 23824 from 6:30 p.m. to 8:30 p.m.

Written comments concerning the scope of the EIS may be mailed to Abigail Low, GSA Project Manager, 20 N 8th Street, Philadelphia, PA 19107, via e-mail to FASTC.info@gsa.gov. More detailed information on the FASTC program is available at http://www.state.gov/recovery/fastc.

FOR FURTHER INFORMATION CONTACT: Abigail Low, GSA Project Manager; 20 N 8th Street, Philadelphia, PA 19107 (215) 446-4815, FASTC.info@gsa.gov.

SUPPLEMENTARY INFORMATION:

Background: The purpose of the proposed FASTC at Fort Pickett is to consolidate existing dispersed training functions into a single suitable location to improve training efficiency and enhance training operations. The proposed FASTC is needed to establish a facility from which DOS Bureau of Diplomatic Security may conduct a wide array of law enforcement and security training to meet the increased demand for well trained personnel.

The proposed FASTC is expected to train 8,000-10,000 students per year and include both hard skills training, such as driving tracks, firing ranges, mock urban environmental, and explosives ranges; soft skills training, such as classrooms, simulation labs, and a fitness center; and support facilities such as administrative offices, dormitories, a dining hall, and emergency response facilities.

During the initial planning process, GSA conducted a comprehensive site evaluation process that identified and evaluated 41 candidate sites in the vicinity of the Washington, DC area. GSA identified land at Fort Pickett and Pickett Park in Nottoway County, Virginia, as the only potentially suitable location for the proposed FASTC facility.

GSA is focusing the proposed development of the FASTC on two adjacent available parcels, an approximately 750 acre Fort Pickett Local Reuse Authority (LRA) parcel 9 owned by Nottoway County, and an approximately 900 acre Virginia Army National Guard parcel referred to as Maneuver Area 21/20. The proposed project would be constructed in phases.

Possible action alternatives that will be evaluated in the EIS are alternative layouts for construction of facilities for hard skills training, soft skills training, life support and infrastructure on the LRA parcel 9 and 21/20 parcels at Fort Pickett. A “No Action Alternative”, in which DOS would continue their training programs as currently conducted without constructing FASTC, will also be evaluated.

Resource areas to be addressed in the FASTC EIS will include, but not be limited to: air quality, noise, land use, socioeconomics, traffic, infrastructure and community services, natural resources, biological resources, cultural resources and safety and environmental hazards. The analysis will evaluate direct, indirect and cumulative impacts. Relevant and reasonable measures that could avoid or mitigate environmental effects will also be analyzed. Additionally, GSA will undertake any consultations required by applicable laws or regulations, including the National Historic Preservation Act.

This notice announces the initiation of the scoping process to identify community concerns and issues that should be addressed in the FASTC EIS. Federal, state, local agency representatives and interested parties or persons are encouraged to provide comments on the proposed action during the 30-day scoping period October 4, 2011 though November 3, 2011. These comments should clearly describe specific issues or topics of environmental concern that the commenter believes GSA should consider.

No decision will be made to implement any alternative until the NEPA process is completed and a Record of Decision is signed.

Dated: September 22, 2011.
Leonard Purzycki,
Director, Facilities Management & Services Programs, U.S. GSA, Mid-Atlantic Region.

[FR Doc. 2011-25458 Filed 10-3-11; 8:45 am]

BILLING CODE 6820-AE-P